DEPARTMENT OF COMMERCE

Census Bureau

Proposed Information Collection; Comment Request; Manufacturers' Unfilled Orders Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before August 31, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Mary Catherine Potter, U.S. Census Bureau, Economic Indicators Division, 4600 Silver Hill Road, Room 7K157, Washington, DC 20233-6913, (301) 763-4207, or(via the internet at mary.catherine.potter@census.gov.)

SUPPLEMENTARY INFORMATION:

I. Abstract

The Manufacturers' Shipments, Inventories, and Orders (M3) survey collects monthly data on the value of shipments, inventories, and new and unfilled orders from manufacturing companies. The orders, as well as the shipments and inventory data, are valuable tools for analysts of business cycle conditions. The Bureau of Economic Analysis, the Counsel of Economic Advisors, the Federal Reserve Board, the Conference Board, and members of the business community such as the National Association of Manufacturers, Wall Street Journal, Market Watch, and Bloomberg business analysts, use the data.

The monthly M3 Survey estimates are based on a relatively small sample that primarily reflects the month-to-month changes of large companies. There is a clear need for periodic benchmarking of the M3 estimates to reflect the manufacturing universe. The Economic Census covering the manufacturing sector and the Annual Survey of Manufactures (ASM) provide annual benchmarks for the shipments and inventory data in this monthly survey. The Manufacturers' Unfilled Orders Survey, the subject of this notice, provides an annual benchmark for unfilled orders.

The Census Bureau uses this data to develop universe estimates of unfilled orders as of the end of the calendar year and to adjust the monthly M3 data on unfilled orders to these levels on the North American Industrial Classification System (NAICS) basis. The benchmarked unfilled orders levels are used to derive estimates of new orders received by manufacturers. The survey data are also used to determine whether it is necessary to collect unfilled orders data for specific industries on a monthly basis; some industries are not requested to provide unfilled orders data on the M3 Survey.

There are no changes to the MA-3000 form.

II. Method of Collection

The Census Bureau will use mail out/mail back survey forms to collect the data with online reporting encouraged. Online response for the survey is typically just under 60 percent. Companies are asked to respond to the survey within 30 days of receipt. Letters encouraging participation are mailed to companies that have not responded by the designated time. Telephone follow-up is conducted to obtain response from delinquent companies.

III. Data

OMB Control Number: 0607-0561.

Form Number(s): MA-3000.

Type of Review: Regular submission.

Affected Public: Manufacturing Businesses, large and small, or other for-profit organizations.

Estimated Number of Respondents: 6,000.

Estimated Time per Response: .50 hour.

Estimated Total Annual Burden Hours: 3,000.

Estimated Total Annual Cost to Public: $0.

Respondents Obligation: Mandatory.

Legal Authority: Title 13 U.S.C., Sections 131, 182, 224 and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2015-16158 Filed 6-30-15; 8:45 am]

BILLING CODE 3510-07-P